Title 3—

The President

Proclamation 9778 of August 31, 2018

National Alcohol and Drug Addiction Recovery Month, 2018

By the President of the United States of America

A Proclamation

During National Alcohol and Drug Addiction Recovery Month, we reaffirm our commitment to addressing the stigma of addiction and take the opportunity to remind all Americans that recovery is possible. We stand with those who are seeking treatment and provide our steadfast support to all who are suffering from and fighting addiction.

Addiction to alcohol and other drugs affects millions of Americans. We must aggressively work to end this crisis, which endangers the safety, security, and well-being of all Americans. Addiction threatens everything that is great about our country—it shatters relationships between family members, replaces self-sufficiency with dependency, depletes our workforce of talent, and riddles communities with violence and disorder. We cannot stand idle and allow those we love to suffer from alcohol or drug addiction; we must be leaders and help guide our friends and neighbors to live drug-free.

Every American has a role to play in stopping alcohol misuse and illicit drug use and in addressing their consequences. I am committed to taking action to keep drugs from pouring into our country and to help those who are affected by them. In March, I announced an Administration-wide Initiative to Stop Opioid Abuse and Reduce Drug Supply and Demand. The Initiative is designed to reduce the demand for drugs through education, awareness, and prevention of opioid overprescription; expand access to evidence-based treatment and recovery support services; and cut off the flow of illicit drugs across our borders and throughout American communities. Further, my Administration has worked with the Congress to secure more than $6 billion in new funding to help combat the drug abuse and opioid epidemic through prevention, treatment and recovery, interdiction, and law enforcement efforts.

This month, we express our gratitude to our Nation's first responders, healthcare providers, and all family, friends, and advocates striving against alcohol and drug addiction. We celebrate the millions of Americans who are in recovery and who contribute every day to our efforts to stop drug use and addiction. Their experiences and persistence reinforce the value and importance of remaining hopeful and resilient when faced with grave challenges. Finally, let us encourage all Americans who struggle with addiction to realize that recovery is possible.

NOW, THERFORE, I, DONALD J. TRUMP, President of the United States of America, by virtue of the authority vested in me by the Constitution and the laws of the United States, do hereby proclaim September 2018 as National Alcohol and Drug Addiction Recovery Month. I call upon the people of the United States to observe this month with appropriate programs, ceremonies, and activities.

IN WITNESS WHEREOF, I have hereunto set my hand this thirty-first day of August, in the year of our Lord two thousand eighteen, and of the Independence of the United States of America the two hundred and forty-third.

[FR Doc. 2018-19506

Filed 9-5-18; 11:15 am]

Billing code 3295-F8-P